INTERNATIONAL TRADE COMMISSION

[Investigation No. 731-TA-1123 (Review)]

Steel Wire Garment Hangers From China

Determination

On the basis of the record ¹ developed in the subject five-year review, the United States International Trade Commission (Commission) determines, pursuant to section 751(c) of the Tariff Act of 1930 (19 U.S.C. §1675(c)), that revocation of the antidumping duty order on steel wire garment hangers from China would be likely to lead to continuation or recurrence of material injury to an industry in the United States within a reasonably foreseeable time.

¹ The record is defined in sec. 207.2(f) of the Commission's Rules of Practice and Procedure (19 CFR §207.2(f)).

Background

The Commission instituted this review on September 3, 2013 (78 FR 54272) and determined on December 20, 2013, that it would conduct an expedited review (79 FR 1885, January 10, 1014).

The Commission completed and filed its determination in this review on February 20, 2014. The views of the Commission are contained in USITC Publication 4453 (February 2014), entitled Steel Wire Garment Hangers From China: Investigation No. 731-TA-1123 (Review).

By order of the Commission.
Issued: February 21, 2014.
Lisa R. Barton,
Acting Secretary to the Commission.

[FR Doc. 2014-04289 Filed 2-26-14; 8:45 am]

BILLING CODE 7020-02-P